DEPARTMENT OF JUSTICE

Notice of Lodging of Consent Decree Under the Clean Air Act of 1970, as Amended

Pursuant to 28 CFR 50.7, notice is hereby given that on May 6, 2008, a proposed consent decree in United States v. Carmeuse Lime & Stone, Inc., Civil Action No. 2:08-CV-00081-WOB, was lodged with the United States District Court for the Eastern District of Kentucky.

This Consent Decree will resolve claims asserted by the United States against Carmeuse for civil penalties based on violations of its PSD/operating permit (“the Permit”) and the PSD provisions of the Kentucky State Implementation Plan (“SIP”) at Carmeuse's Black River plant (“the Plant”) located in Butler, Pendleton County, Kentucky. The complaint alleges that Carmeuse violated the Permit by not implementing best available control technology (“BACT”) for two lime kilns at the Plant.

The proposed Consent Decree resolves these claims by requiring Carmeuse to pay a civil penalty in the amount of $100,000 to the United States.

The Department of Justice will receive for a period of thirty (30) days from the date of this publication comments relating to the consent decree. Comments should be addressed to the Assistant Attorney General, Environment and Natural Resources Division, and either e-mailed to pubcomment-ees.enrd@usdoj.gov or mailed to P.O. Box 7611, U.S. Department of Justice, Washington, DC 20044-7611, and should refer to United States v. Carmeuse Lime & Stone, Inc., D.J. Ref. #90-5-2-1-08832.

The consent decree may be examined at the Office of the United States Attorney for the Eastern District of Kentucky, 260 West Vine Street, Suite 300, Lexington, KY 40507-1671, and at U.S. EPA Region 4, Office of Regional Counsel, 61 Forsyth Street, Atlanta, GA 30303. During the public comment period, the consent decree may also be examined on the following Department of Justice Web site: http://www.usdoj.gov/enrd/Consent_Decrees.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $3.00 (25 cents per page reproduction cost) payable to the U.S. Treasury.

Henry Friedman,
Assistant Section Chief, Environmental Enforcement Section, Environment and Natural Resources Division.

[FR Doc. E8-11290 Filed 5-20-08; 8:45 am]

BILLING CODE 4410-15-P